DEPARTMENT OF EDUCATION

Submission for OMB Review; Comment Request; Correction

AGENCY: Department of Education.

ACTION: Notice; correction.

SUMMARY: On February 18, 2010, the Department of Education published a 30-day comment period notice in the Federal Register (Page 7264, Column 3) seeking public comment for an information collection entitled, “Application for Grants under the Predominately Black Institutions Program”. This notice is hereby cancelled. Interested persons are invited to submit comments during the 60-day public comment period on or before March 8, 2010. Once the 60-day comment period ends, a 30-day public comment period notice will be published. The Acting Director, Information Collection Clearance Division, Regulatory Information Management Services, Office of Management, hereby issues a correction notice as required by the Paperwork Reduction Act of 1995.

Dated: February 18, 2010.
James Hyler,
Acting Director, Information Collection Clearance Division, Regulatory Information Management Services, Office of Management.

[FR Doc. 2010-3689 Filed 2-23-10; 8:45 am]

BILLING CODE P